DEPARTMENT OF DEFENSE

Department of the Army

Notice of Availability of the Draft Environmental Impact Statement (DEIS) for the Maneuver Center of Excellence (MCOE) Actions at Fort Benning, GA

AGENCY: Department of the Army, DoD.

ACTION: Notice of Availability (NOA).

SUMMARY: The U.S. Army announces the availability of the DEIS, which evaluates the potential environmental and socioeconomic impacts of the construction, operation, and maintenance of facilities and training areas at Fort Benning. The DEIS also re-evaluates projects that have moved or changed extensively from those evaluated in the Base Realignment and Closure (BRAC) and Transformation EIS (2007). The proposed action is designed to accommodate newly identified requirements for Armor School training, accommodate Army growth, and support the MCOE standup. The MCOE proposed actions include the construction, operation, and maintenance of facilities and training areas (including assets such as ranges and maneuver areas) to (1) accommodate newly identified requirements for Armor School training, (2) support the increased throughput of military personnel and students associated with Grow the Army missions, and (3) support the MCOE requirements at Fort Benning.

DATES:

1. Public comment period for the DEIS: Ends 45 days after publication of the notice announcing the DEIS availability in the Federal Register by the U.S. Environmental Protection Agency.

2. Public Meeting: Tuesday, January 13, 2009, from 3 p.m. to 5 p.m. and 6 p.m. to 9 p.m. at the Elizabeth Bradley Turner Center, Founders Hall, Columbus State University, Columbus, Georgia.

ADDRESSES: Please send written comments on the DEIS to: Mr. John Brent, Fort Benning Directorate of Public Works, Environmental Management Division, Building #6 (Meloy Hall), Room 310, Fort Benning, GA 31905. E-mail comments should be sent to: john.brent@us.army.mil.

FOR FURTHER INFORMATION CONTACT: Mr. Anthony O'Bryant, Fort Benning Public Affairs Office at (706) 545-4591, or Mr. Brandon Cockrell at (706) 545-3210 during normal business hours.

SUPPLEMENTARY INFORMATION: The Proposed Action and subject of the DEIS covers the construction and development activities in the cantonment, range and training areas to meet the requirements of the MCOE actions at Fort Benning.

The proposed action would provide the facilities, infrastructure, and equipment needed to support the MCOE activities at Fort Benning. All construction activities associated with the proposed action would occur on Fort Benning within the Georgia boundaries. The proposed community services, personnel support, classroom, barracks, and dining facilities would be constructed in three of the four cantonment areas at Fort Benning: Main Post, Sand Hill, and Harmony Church; no new construction is proposed in the fourth cantonment area at Kelley Hill. Throughout the cantonment areas, new facility construction will be sited to coincide with and/or be a complement to existing missions, facility operations, and functions. In order to minimize potential impacts to the environment (e.g., avoiding sensitive species habitat), existing infrastructure would be used to the greatest extent possible. Training assets, in the form of ranges and maneuver areas, currently are found throughout the installation. The proposed improvements/upgrades to existing ranges and maneuver areas and proposed new ranges were selected to align with these existing assets.

In the development of the DEIS, three alternatives were carried forward for analysis. Alternative A (the Army's Preferred Alternative) entails construction, operation, and maintenance of facilities and training areas, including assets such as small- and large-caliber weapons ranges, heavy maneuver areas and corridors, an off-road driver training area, and a vehicle recovery area to support the training range requirements. Also included are additional supporting projects and previously evaluated projects that have moved or changed extensively in order to support the increased throughput of military personnel and students associated with Grow the Army missions and MCOE standup activities. Alternative B is similar to Alternative A, but differs from Alternative A in the location of One Station Unit (OSUT) Training. The Multi-Purpose Machine Gun Range 1 and the Automated Combat Pistol Qualification course are only included in Alternative B. The No Action Alternative, which reflects the status quo and incorporates all FY09 through FY13 projects that were analyzed in the BRAC/Transformation EIS, was also evaluated. These projects were approved in the 2007 BRAC/Transformation Record of Decision (ROD).

The DEIS analyses indicate that implementation of Alternative A (Preferred Alternative) would have significant impacts on biological resources and cultural resources. Significant impacts would be reduced or minimized to no significant impacts by implementation of mitigation measures identified for certain biological resources and cultural resources. Implementation of the preferred alternative would have no significant impacts to visual and aesthetic resources; socioeconomics; transportation; noise; air quality; hazardous and toxic materials and waste; water resources; geology and soils; Unique Ecological Areas; safety; land use; or utilities. Noise contour data for all alternatives indicate no significant impacts would occur either on post or off post. Alternative locations for some of the projects as presented in Alternative B would provide similar impacts and benefits as Alternative A in all resources except for special status species where the impacts to the Red-cockaded Woodpecker would be greater, and cultural resources where impacts would be slightly less. The No Action alternative includes the BRAC/Transformation projects and environmental baseline conditions for comparison to the impacts associated with the action alternatives. Impacts for the No Action alternative would be similar to Alternative A, except cultural resources where impacts would be less.

In a 2007 EIS and ROD, the Army announced its decision to implement the BRAC 2005 and Transformation Actions at Fort Benning. Under this action, the Armor Center and School is relocating from Fort Knox, Kentucky, to Fort Benning and will eventually consolidate with the Infantry Center and School. The 2007 EIS and ROD also addressed the Army Modular Force transformation actions, Global Defense Posture Realignments, and other Army stationing activities. This EIS is prepared in part to re-evaluate projects that have moved or changed extensively from those evaluated in the 2007 EIS.

The Army invites the public, local governments, federally-recognized American Indian Tribes, and state and other Federal agencies to submit written comments or suggestions concerning the alternatives and analyses addressed in the DEIS. The public and government agencies also are invited to participate in a public meeting where oral and written comments and suggestions will be received.

Copies of the DEIS will be available for review at several local libraries prior to the public meeting. The DEIS may also be reviewed electronically at: http://www.hqda.army.mil/acsim/brac/nepa_eis_docs.htm.

Dated: December 5, 2008.
Addison D. Davis, IV,
Deputy Assistant Secretary of the Army (Environment, Safety and Occupational Health).

[FR Doc. E8-29319 Filed 12-11-08; 8:45 am]

BILLING CODE 3710-08-M